DEPARTMENT OF EDUCATION

Applications for New Awards; Transformative Research in the Education Sciences and Using Longitudinal Data To Support State Education Policymaking Grant Programs

AGENCY: Institute of Education Sciences, Department of Education.

ACTION: Notice.

SUMMARY: The Department of Education (Department) is issuing a notice inviting applications for new awards for fiscal year (FY) 2025 for the Education Research Grant Programs, Assistance Listing Numbers (ALNs) 84.305S and 84.305T. This notice relates to the approved information collection under OMB control number 4040-0001.

DATES: The dates when applications are available and the deadlines for transmittal of applications invited under this notice are indicated in the chart at the end of this notice and in the Requests for Applications (RFAs) that are posted at the following website: https://ies.ed.gov/funding.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: The contact person associated with a particular research competition is listed in the chart at the end of this notice, as well as in the relevant RFA and application package.

If you are deaf, hard of hearing, or have a speech disability and wish to access telecommunications relay services, please dial 7-1-1.

SUPPLEMENTARY INFORMATION:

Full Text of Announcement

I. Funding Opportunity Description

Purpose of Program: In awarding research grants, the Institute of Education Sciences (IES) intends to provide national leadership in expanding knowledge and understanding of (1) education outcomes for all learners from early childhood education through postsecondary and adult education, and (2) employment and wage outcomes when relevant (such as for those engaged in career and technical, postsecondary, or adult education). The IES research grant programs are designed to provide interested individuals and the general public with reliable and valid information about education practices that support learning and improve academic achievement and access to education opportunities for all learners. These interested individuals include parents, educators, learners, researchers, and policymakers. In carrying out its grant programs, IES provides support for programs of research in areas of demonstrated national need.

Competitions in This Notice:

The IES National Center for Education Research (NCER) is announcing two competitions—one competition in each of the following areas: using longitudinal data to support State education policymaking and transformative research in the education sciences.

Using Longitudinal Data to Support State Education Policymaking (ALN 84.305S). Under this competition, NCER will only consider applications that address State agencies' use of their State's education longitudinal data systems to identify and reduce opportunity and achievement gaps for learners from prekindergarten through adult education.

Transformative Research in the Education Sciences (ALN 84.305T). Through this program, IES seeks to support innovative research that has the potential to make dramatic advances towards solving seemingly intractable problems and challenges in the education field and/or to accelerate the pace of conducting education research to facilitate major breakthroughs. For the FY 2025 competition, the Transformative Research in the Education Sciences grant program will focus on accelerating learning and reducing persistent education inequities by leveraging evidence-based principles from the learning sciences, coupled with advanced technology to create high-reward, scalable technology solutions.

Multiple Submissions: You may submit applications to more than one of the FY 2025 research grant programs offered through the Department, including those offered through IES as well as those offered through other offices and programs within the Department. You may submit multiple applications to each IES grant program announced here as long as they address different key issues, programs, or policies. However, you may submit a given application only once for the IES FY 2025 grant competitions, meaning you may not submit the same application or similar applications to multiple grant programs within IES, to multiple topics within a grant competition, or multiple times within the same topic. If you submit multiple similar applications, IES will determine whether and which applications will be accepted for review and/or will be eligible for funding.

In addition, if you submit the same or similar application to IES and to another funding entity within or external to the Department and receive funding for the non-IES application prior to IES scientific peer review of applications, you must withdraw the same or similar application submitted to IES, or IES may otherwise determine you are ineligible to receive an award. If reviews are happening concurrently, IES staff will consult with the other potential funder to determine the degree of overlap and which entity will provide funding if both applications are being considered for funding.

Exemption from Proposed Rulemaking: Under section 191 of the Education Sciences Reform Act, 20 U.S.C. 9581, IES is not subject to section 437(d) of the General Education Provisions Act, 20 U.S.C. 1232(d), and is therefore not required to offer interested parties the opportunity to comment on matters relating to grants.

Program Authority: 20 U.S.C. 9501 et seq.

Note: Projects will be awarded and must be operated in a manner consistent with the nondiscrimination requirements contained in Federal civil rights laws.

Applicable Regulations: (a) The Education Department General Administrative Regulations in 34 CFR parts 77, 81, 82, 84, 86, 97, 98, and 99. In addition, the regulations in 34 CFR part 75 are applicable, except for the provisions in 34 CFR 75.100, 75.101(b), 75.102, 75.103, 75.105, 75.109(a), 75.200, 75.201, 75.209, 75.210, 75.211, 75.217(a)-(c), 75.219, 75.220, 75.221, 75.222, 75.230, 75.250(a), and 75.708. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

Note: The open licensing requirement in 2 CFR 3474.20 does not apply to these competitions.

II. Award Information

Types of Awards: Discretionary grants and cooperative agreements.

Fiscal Information: Although Congress has not yet enacted an appropriation for FY 2025, IES is inviting applications for these competitions now so that applicants can have adequate time to prepare their applications. The actual level of funding, if any, depends on final congressional action. IES may announce additional competitions later in 2024.

Estimated Range of Awards: See chart at the end of this notice. The size of the awards will depend on the scope of the projects proposed.

Estimated Number of Awards: In previous years, IES has awarded 3 to 7 grants under each of these competitions. The number of awards made under each competition will depend on the quality of the applications received for that competition and the availability of funds.

Note: The Department is not bound by any estimates in this notice.

Project Period: See chart at the end of this notice.

III. Eligibility Information

1. Eligible Applicants: For the Using Longitudinal Data to Support State Education Policymaking (ALN 84.305S) grant program, eligible applications must include the eligible State agency or State postsecondary system responsible for the education issue, program, or policy to be examined. Eligible State agencies include the State educational agency (SEA) responsible for the State's K-12 sector as well as other State agencies responsible for other specific education sectors such as prekindergarten, career and technical education, postsecondary education, and adult education. In addition, a State postsecondary system may serve as the eligible State agency. Eligible State agencies may apply alone, or in conjunction with research organizations such as universities and research firms, and/or with other appropriate organizations (such as other State agencies or local educational agencies).

For the Transformative Research in the Education Sciences (ALN 84.305T) grant program, eligible applicants are organizations that have the demonstrated ability and capacity to conduct rigorous research and development. Eligible applicants include, but are not limited to, institutions of higher education and non-profit, for-profit, public, or private entities. Eligible applications must include research, product development, and education agency partners. The research partner must be an organization that has the ability and capacity to conduct rigorous research and development. The product development partner must be an organization that has experience developing and scaling products. Eligible education agency partners include:

○ State education agencies such as departments, boards, and commissions that oversee early learning, elementary, secondary, postsecondary, and/or adult education. The term “State education agencies” includes U.S. Territories' education agencies and Tribal educational agencies.

○ Local educational agencies, which are primarily public school districts and may also include county or city agencies that have primary responsibility for prekindergarten or adult education. Individual schools, including those that are recognized as a local educational agency, or groups of schools that do not form a school district are not eligible to apply as the education agency partner.

○ Intermediate districts (sometimes called service districts) that provide services to multiple districts but do not have decision-making authority over implementing programs and policies cannot serve as the agency partner.

○ Community college districts.

○ State and city postsecondary systems. The postsecondary system must apply as the agency partner. Individual postsecondary institutions may not apply as the agency partner.

○ In places where State or local educational agencies do not oversee adult education, the adult education providers, defined as “eligible providers” (e.g., community-based organizations, institutions of higher education, public or non-profit agencies, libraries) under Title II of the Workforce Innovation and Opportunity Act (WIOA: https://www.gpo.gov/fdsys/pkg/PLAW-113publ128/pdf/PLAW-113publ128.pdf), can serve as the agency partner.

Applications that include non-public organizations that oversee or administer schools (e.g., certain charter or education management organizations) must also include, as an agency partner, the State or local educational agency with oversight of the schools these non-public organizations manage.

2. a. Cost Sharing or Matching: The Using Longitudinal Data to Support State Education Policymaking (ALN 84.305S) grant program does not require cost sharing or matching.

The Transformative Research in the Education Sciences (ALN 84.305T) grant program requires cost sharing or matching. For this program, by the beginning of Year 2, each grant recipient must secure matching funds in an amount equal to 10 percent of the total funds provided under the grant in the form of cash or in-kind contributions through a cost-sharing agreement. Specifically, continuation funding in Years 2 and 3 will be contingent upon the establishment of a cost sharing agreement and the inclusion of a revised budget and budget narrative that includes cost sharing funds in the first-year annual report. The cost sharing partner must be an organization that has experience developing and scaling technology products.

b. Indirect Cost Rate Information: Both programs described in this notice use an unrestricted indirect cost rate. For more information regarding indirect costs, or to obtain a negotiated indirect cost rate, please see www2.ed.gov/about/offices/list/ocfo/intro.html.

3. Subgrantees: Under 34 CFR 75.708(b) and (c) a grantee under these competitions may award subgrants—to directly carry out project activities described in its application—to the following types of entities: nonprofit and for-profit organizations and public and private agencies and institutions of higher education. The grantee may award subgrants to entities it has identified in an approved application.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application.

2. Other Information: Information regarding program and application requirements for the competitions will be contained in the currently available IES Application Submission Guide and in the NCER Request for Applications (RFA)s, which will be available on or before May 6, 2024, on the IES website at: https://ies.ed.gov/funding/. The application packages for these competitions will also be available on or before May 6, 2024.

3. Content and Form of Application Submission: Requirements concerning the content of an application are contained in the RFA for the specific competition. The forms that must be submitted are in the application package for the specific competition.

4. Submission Dates and Times: The deadline date for transmittal of applications for each competition is indicated in the chart at the end of this notice and in the RFAs for the competitions.

We do not consider an application that does not comply with the deadline requirements.

5. Intergovernmental Review: These competitions are not subject to Executive Order 12372 and the regulations in 34 CFR part 79.

6. Funding Restrictions: We reference regulations outlining funding restrictions in the Applicable Regulations section of this notice.

V. Application Review Information

1. Selection Criteria: For all of its grant competitions, IES uses selection criteria based on a peer review process that has been approved by the National Board for Education Sciences. The Peer Review Procedures for Grant Applications can be found on the IES website at https://ies.ed.gov/director/sro/peer_review/application_review.asp.

For the 84.305S competition, peer reviewers will evaluate the significance of the application, the quality of the research plan, the applicability and availability of the data to be analyzed, and the quality of the plans to disseminate and use the findings in State decision-making. These criteria are described in greater detail in the RFA.

For the 84.305T competition, peer reviewers will evaluate the significance of the transformative solution, research approach, deliverables and metrics plan, personnel, resources, and dissemination.

For all IES competitions, applications must include budgets no higher than the relevant maximum award as set out in the relevant RFA. IES will not make an award exceeding the maximum award amount as set out in the relevant RFA.

2. Review and Selection Process: We remind potential applicants that in reviewing applications in any discretionary grant competition, IES may consider, under 34 CFR 75.217(d)(3), the past performance of the applicant in carrying out a previous award, such as the applicant's use of funds, achievement of project objectives, compliance with the IES policy regarding public access to research, and compliance with grant conditions. IES may also consider whether the applicant failed to submit a timely performance report or submitted a report of unacceptable quality.

In addition, in making a competitive grant award, IES also requires various assurances including those applicable to Federal civil rights laws that prohibit discrimination in programs or activities receiving Federal financial assistance from the Department (34 CFR 100.4, 104.5, 106.4, 108.8, and 110.23).

3. Risk Assessment and Specific Conditions: Consistent with 2 CFR 200.206, before awarding grants under these competitions, the Department conducts a review of the risks posed by applicants. Under 2 CFR 200.208, IES may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under these competitions to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for an annual meeting of up to three days for project directors to be held in Washington, DC.

4. Reporting: (a) If you apply for a grant under one of the competitions announced in this notice, you must ensure that you have in place the necessary processes and systems to comply with the reporting requirements in 2 CFR part 170 should you receive funding under the competition. This does not apply if you have an exception under 2 CFR 170.110(b).

(b) At the end of your project period, you must submit a final performance report, including financial information, as directed by IES. If you receive a multiyear award, you must submit an annual performance report that provides the most current performance and financial expenditure information as directed by IES under 34 CFR 75.118. IES may also require more frequent performance reports under 34 CFR 75.720(c). For specific requirements on reporting, please go to www.ed.gov/fund/grant/apply/appforms/appforms.html.

5. Performance Measures: To evaluate the overall success of its education research grant programs, IES annually assesses the percentage of projects that result in peer-reviewed publications and the number of IES-supported interventions with evidence of efficacy in improving learner education outcomes. School readiness outcomes include pre-reading, reading, pre-writing, early mathematics, early science, and social-emotional skills that prepare young children for school. Student academic outcomes include learning and achievement in academic content areas, such as reading, writing, math, science, and social studies as well as outcomes that reflect students' successful progression through the education system, such as attendance; course and grade completion; high school graduation; and postsecondary enrollment, progress, and completion. Social and behavioral competencies include social and emotional skills, attitudes, and behaviors that are important to academic and post-academic success. Employment and earnings outcomes include hours of employment, job stability, and wages and benefits, and may be measured in addition to student academic outcomes.

6. Continuation Awards: In making a continuation award under 34 CFR 75.253, IES considers, among other things: whether a grantee has made substantial progress in achieving the goals and objectives of the project; whether the grantee has expended funds in a manner that is consistent with its approved application and budget; whether a grantee is in compliance with the IES policy regarding public access to research; and if IES has established performance measurement requirements, whether the grantee has made substantial progress in achieving the performance targets in the grantee's approved application.

In making a continuation award, IES also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the relevant program contact person listed in FOR FURTHER INFORMATION CONTACT, as well as in the relevant RFA and application package, individuals with disabilities can obtain this document and a copy of the RFA in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov.

Specifically, through the advanced search feature at this site, you can limit your search to documents published by the Department.

Matthew Soldner,
Acting Director, Institute of Education Sciences.

Institute of Education Sciences
ALN and name | Application package available | Deadline for transmittal of applications | Estimated range of awards * | Project period | For further information contact
84.305S Using Longitudinal Data to Support State Education Policymaking | May 6, 2024 | August 15, 2024 | $100,000 to $333,333 | Up to 3 years | Haigen.Huang@ed.gov.
84.305T Transformative Research in the Education Sciences | May 6, 2024 | September 12, 2024 | $300,0000 to $1,250,000 | Up to 3 years | Erin.Higgins@ed.gov.

[FR Doc. 2024-09666 Filed 5-2-24; 8:45 am]

BILLING CODE 4000-01-P